Proclamation 8717 of September 16, 2011

National Historically Black Colleges and Universities Week, 2011

By the President of the United States of America

A Proclamation

More than 150 years ago, courageous men and women took great risks and made extraordinary sacrifices to establish our country’s first African-American colleges and universities. These institutions remain at the forefront of providing educational opportunities to young people across our country today. During National Historically Black Colleges and Universities Week, we pay homage to the daring leaders who laid the foundation for these institutions, and we reaffirm our commitment to ensuring Historically Black Colleges and Universities (HBCUs) remain pathways to realizing the American dream.

Founded by visionaries, HBCUs have given generations of students a sense of their heritage, their history, and their place in the American narrative. They have produced many of our Nation’s leaders in business, government, academia, and the military. Today, we recognize them as the crucibles of learning, where a young legal student discovered the sense of purpose that led him to the Supreme Court, a young broadcaster with a unique name gained the foundation to build an empire, and a young preacher grew into a king who shared his dream with the world.

HBCUs continue a proud tradition as vibrant centers of intellectual inquiry and engines of scientific discovery and innovation. New waves of students, faculty, and alumni are building on their rich legacies and helping America achieve our goal of once again leading the world in having the highest proportion of college graduates by 2020. This week, as we celebrate the vast contributions HBCUs have made to our Nation, we are reminded of their role in fulfilling a great American truth—that equal access to a quality education can open doors for all our people. By continuing to strengthen HBCUs, we ensure they remain beacons of hope for future generations of Americans who will move our country closer to the ideals of our founding.

NOW, THEREFORE, I, BARACK OBAMA, President of the United States of America, by virtue of the authority vested in me by the Constitution and the laws of the United States, do hereby proclaim September 18 through September 24, 2011, as National Historically Black Colleges and Universities Week. I call upon educators, public officials, professional organizations, corporations, and all the people of the United States to observe this week with appropriate programs, ceremonies, and activities that acknowledge the numerous contributions these institutions and their alumni have made to our country.

IN WITNESS WHEREOF, I have hereunto set my hand this sixteenth day of September, in the year of our Lord two thousand eleven, and of the Independence of the United States of America the two hundred and thirty-sixth.

[FR Doc. 2011-24451

Filed 9-20-11; 11:15 am]

Billing code 3195-W1-P